DEPARTMENT OF ENERGY

Federal Energy Regulatory Commission

[Docket No. RA16-1-000]

Tektronix, Inc.; Notice of Termination of Proceeding

On May 20, 2016, Tektronix, Inc. (Tektronix) filed a Petition for Review of Denial of Adjustment Request, Request for Hearing, and Request for Confidential Treatment (Petition) under Subpart J of the Commission's Rules of Practice and Procedure.¹ Tektronix's Petition alleged that the Department of Energy (DOE) Office of Hearings and Appeals (OHA) improperly denied applications for various forms of relief from DOE energy conservation standards applicable to external power supplies.

¹ 18 CFR 385.1004 and 385.1006 (2017).

On January 19, 2018, the Administrative Law Judge designated to serve as the presiding officer, Judge David H. Coffman, issued a Report to the Commission and reported that on January 16, 2018, Tektronix and DOE filed a Joint Notice of Satisfaction representing that OHA vacated its orders denying Tektronix's applications for relief. Accordingly, consistent with the Proposed Settlement filed on November 20, 2017, the Judge deemed the Petition and Tektronix's applications to OHA to be withdrawn.

Take notice that the proceeding in Docket No. RA16-1-000 is, as a consequence, deemed terminated.

Dated: April 6, 2018.
Kimberly D. Bose,
Secretary.

[FR Doc. 2018-07559 Filed 4-11-18; 8:45 am]

BILLING CODE 6717-01-P